DEPARTMENT OF JUSTICE

Antitrust Division

Notice Pursuant to the National Cooperative Research and Production Act of 1993—Spray Drift Task Force

Notice is hereby given that, on January 28, 2002, pursuant to section 6(a) of the National Cooperative Research and Production Act of 1993, 15 U.S.C. 4301 et seq. (“the Act”), the Spray Drift Task Force has filed written notifications simultaneously with the Attorney General and the Federal Trade Commission disclosing changes in the membership status. The notifications were filed for the purpose of extending the Act's provisions limiting the recovery of antitrust plaintiffs to actual damages under specified circumstances. Specifically, Dow AgroSciences, L.L.C., Zionsville, IN aquired the membership formerly held by Rohm and Haas, Philadelphia, PA, in an asset purchase of Rohm and Haas's crop protection business, and subsequently transferred that membership to Gowan Company, Yuma, AZ. Also, Syngenta Crop Protection Corp., Greensboro, NC has transferred the membership formerly held by Zeneca, Inc., Wilmington, DE to Chemical Products Technologies, L.L.C., Cartersville, GA.

No other changes have been made in either the membership or planned activity of the group research project. Membership in this group research project remains open, and the Spray Drift Task Force intends to file additional written notification disclosing all changes in membership.

On May 15, 1990, the Spray Drift Task Force filed its original notification pursuant to section 6(a) of the Act. The Department of Justice published a notice in the Federal Register pursuant to section 6(b) of the Act on July 5, 1990 (55 FR 27701).

The last notification was filed with the Department on July 20, 2001. A notice was published in the Federal Register pursuant to section 6(b) of the act on August 15, 2001 (66 FR 42877).

Constance K. Robinson,
Director of Operations, Antitrust Division.

[FR Doc. 02-5540 Filed 3-7-02; 8:45 am]

BILLING CODE 4410-11-M